DEPARTMENT OF COMMERCE

National Institute of Standards and Technology

[Docket Number: 070309054-7055-01]

NIST Center for Neutron Research (NCNR) Neutron Research and Neutron Scattering, and Sample Environment Equipment Financial Assistance Programs; Availability of Funds

AGENCY: National Institute of Standards and Technology, Commerce.

ACTION: Notice.

SUMMARY: The National Institute of Standards and Technology (NIST) announces that the following programs are soliciting applications for financial assistance for FY 2007: (1) NCNR Neutron Research and Neutron Scattering Financial Assistance Program, and (2) the NCNR Sample Environment Equipment Financial Assistance Program. Each program will only consider applications that are within the scientific scope of the program as described in this notice and in the detailed program descriptions found in the Federal Funding Opportunity (FFO) announcement for these programs.

DATES: Complete paper and electronic applications for each program must be received by 5 p.m. Daylight Savings Time on May 7, 2007.

ADDRESSES: For both programs, a complete application package may be obtained by contacting Tanya Burke, National Institute of Standards and Technology, NIST Center for Neutron Research, 100 Bureau Drive, Mail Stop 6100, Gaithersburg, MD 20899-6100.

FOR FURTHER INFORMATION CONTACT: For complete information about both programs and instructions for applying by paper or electronically, read the Federal Funding Opportunity Notices (FFO) at http://www.grants.gov. A paper copy of the FFO may be obtained by calling (301) 975-6328. The NCNR Neutron Research and Neutron Scattering Financial Assistance Program and the NCNR Sample Environment Equipment Financial Assistance Program will publish separate FFOs on www.grants.gov. For both programs, technical questions may be directed to Dr. Dan Neumann, NIST Center for Neutron Research, NIST, 100 Bureau Drive, Mail Stop 6102, Gaithersburg, MD 20899-6102; telephone: (301) 975-5252; e-mail: Dan.Neumann@nist.gov. For both programs, grants administration questions should be addressed to Judy Murphy, NIST Grants and Agreements Management Division, NIST, 100 Bureau Drive, Mail Stop 1650, Gaithersburg, MD 20899-1650; telephone: (301) 975-5603; e-mail: judy.murphy@nist.gov. The NCNR Web site is: http://www.ncnr.nist.gov.

For assistance with using Grants.gov, contact support@grants.gov.

SUPPLEMENTARY INFORMATION:

Catalog of Federal Domestic Assistance Name and Number: Measurement and Engineering Research and Standards—11.609.

Statutory Authority: 15 U.S.C. 272(b)(7) and (c)(8, 10, 16, 17, 19).

Application Submission: Paper Applications—Each applicant must submit one signed original and two paper copies of the complete application as described in the Federal Funding Opportunity to Tanya Burke, National Institute of Standards and Technology, Center for Neutron Research, STOP 6100, Gaithersburg, Maryland 20899-6100, telephone (301) 975-4711. Facsimile, electronic mail, and other forms of electronic application submissions, other than electronic applications submitted through Grants.gov, will not be accepted.

For electronic submission: Applicants should follow the Application Instructions provided at Grants.gov when submitting a response to this funding opportunity. Applicants are encouraged to start early and not wait to the approaching due date before logging on and reviewing the instructions for submitting an application through Grants.gov.

Eligibility: The NCNR Neutron Research and Neutron Scattering Financial Assistance Program and the NCNR Sample Environment Equipment Financial Assistance Program are open to institutions of higher education; hospitals; nonprofit organizations; commercial organizations; State, local, and Indian tribal governments; foreign governments; organizations under the jurisdiction of foreign governments; and international organizations.

Cost Sharing or Matching: There is no cost sharing or matching requirements for these programs.

NCNR Neutron Research and Neutron Scattering Financial Assistance Program

Program Description: The primary program objectives of the financial assistance program in Neutron Research and Neutron Scattering are to develop new areas of neutron instrumentation with emphasis on cold neutrons; to explore and develop new areas of neutron scattering science, with emphasis on macromolecular science, condensed matter physics, and chemistry; to explore and develop new areas of neutron imaging or neutron physics; to assist and train NCNR facility users in their research; and to conduct other outreach and educational activities that advance the use of neutrons by U.S. university and industrial scientists. This will entail stationing scientific staff at the NCNR who, in collaboration with NIST and visiting scientists, advance these objectives.

NIST does not require or anticipate full scope proposals, i.e. proposals need not address the fields of Neutron Research (which includes neutron imaging and neutron physics) and Neutron Spectroscopy (which includes neutron diffraction and neutron spectroscopy) at the same time. Proposals should instead be focused on one (or more) of the primary objectives listed above, i.e. the development of neutron instrumentation, new areas of neutron scattering science, new areas of neutron imaging, and/or new areas of neutron physics. Applicants and team members must possess the education, experience, and training, to pursue and advance the fields of Neutron Research or Neutron Scattering efficiently. In addition, the applicant and team members must possess a demonstrated record of excellence in the development of neutron instrumentation or in research involving neutron imaging, neutron physics, or neutron scattering methods.

Additional information on the NCNR can be found at: http://www.ncnr.nist.gov.

Funding Availability: The funding instrument used in this program will be a cooperative agreement. The nature of NIST's “substantial involvement” will generally be collaboration with the recipient(s) by working jointly with recipient scientists in carrying out the scope of work, or specifying direction or redirection of the scope of work due to inter-relationships with other programs requiring such cooperation.

Proposals will be considered for cooperative agreements with durations of up to five years, subject to the availability of funds, satisfactory progress, and the continuing relevance to the objectives of the NIST Center for Neutron Research. The anticipated level of funding is up to $5,000,000 ($5 million) per year. One to five awards are likely.

NIST will determine whether to fund one award for the full amount; to divide available funds into multiple awards of any size, and negotiate scopes of work and budgets as appropriate; or not to select any proposal for funding, upon completing the selection process described below.

Awards are anticipated to contain a start date of September 3, 2007.

Review and Selection Process: All applications received in response to this announcement will be reviewed to determine whether they are complete and responsive to the scope of the stated program objectives. Incomplete or non-responsive applications will not be reviewed for technical merit. The Program will retain one copy of each non-responsive application for three years for record keeping purposes and destroy all other copies.

Responsive proposals will be evaluated using the Evaluation Criteria for the NCNR Neutron Research and Neutron Scattering Financial Assistance Program described in this notice by an independent, objective panel composed of at least four individuals who are knowledgeable about neutron research, neutron spectroscopy, and neutron instrumentation. The reviewers will reach a consensus score resulting in a rank order of applicants. However, if non-Federal reviewers are used, each reviewer will evaluate and provide a score for each proposal without reaching a consensus.

The NCNR Director, serving as the Selecting Official, will make the award selection. In making the award selection, the NCNR Director will take into consideration the panels' technical evaluation. The NCNR Director, as the Selecting Official, may choose a proposal out of rank order based upon one or more of the following factors: (1) Availability of funds, (2) Redundancy, (3) Balance/distribution of funds by research areas described in the Funding Opportunity Description section of this Notice, (4) Program objectives described above in the Funding Opportunity Description section of this Notice, and (5) Logistical concerns that would be detrimental to the success or timely completion of the proposal objectives. Therefore, the highest scoring proposals may not necessarily be selected for an award. If an award is made to an applicant that deviates from the scores of the reviewers, the NCNR Director shall justify the selection in writing based on selection factors described above. The NCNR Director may select all, none, or some of the applications for funding.

The final approval of selected applications and award of financial assistance will be made by the NIST Grants Officer based on compliance with application requirements as published in this notice, compliance with applicable legal and regulatory requirements, whether the application furthers the objectives of the Department of Commerce, and whether the recommended applicants appear to be responsible. Applicants may be asked to modify objectives, work plans, or budgets and provide supplemental information required by the agency prior to award. The award decision of the Grants Officer is final. Applicants should allow up to 90 days processing time.

Unsuccessful applicants will be notified in writing. The Program will retain one copy of each unsuccessful application for three years for record keeping purposes. The remaining copies will be destroyed.

Evaluation Criteria: For the NCNR Neutron Research and Neutron Scattering Financial Assistance Program, the technical reviewers will use the following criteria to evaluate the proposals:

1. Qualifications and experience of the Principal Investigator in neutron research or neutron scattering as demonstrated by extensive publications and invited lectures in condensed matter physics, chemistry, material science, macromolecular science, neutron imaging, neutron physics, or related fields. (20%)

2. Qualifications and experience of the proposed university staff in neutron research or neutron scattering or in related scientific or engineering areas that are key to the activities contained in the proposal, as demonstrated by resumes of staff proposed for this program. (10%)

3. Quality of the proposed research and development plan and its potential impact on neutron research or neutron scattering, particularly in the areas of condensed matter physics, chemistry, material science, macromolecular science, neutron imaging, or neutron physics. (20%)

4. Quality of the plan in terms of providing research assistance to U.S. neutron researchers using the NCNR facilities, including related training, education, and outreach. (30%)

5. Quality of the plan to integrate university staff effectively into the activities of the NCNR facility, including establishing robust communications between the university and the NCNR. (15%)

6. Cost effectiveness of the plan, including the completeness of the estimate to achieve the objectives stated in the proposal. (5%)

NCNR Sample Environment Equipment Financial Assistance Program

Program Description: The primary objectives of this financial assistance program are to develop, design, and construct new, state-of-the-art equipment for dedicated use by the general scientific community on NCNR neutron beam stations that provide specific and well-controlled environments of scientific interest for in-situ studies of the microscopic properties of a broad range of sample materials such as molecular solids, thin films, biomolecules and biological membranes, solid state materials, polymers, and complex fluids, using neutron scattering and imaging techniques. Examples of sample environments include high (and/or pulsed) magnetic fields, high pressures, high (and/or pulsed) electric fields, variable humidity, high or low temperatures, variable shear, and various combinations thereof. A list of all the sample environment equipment at the NCNR that is currently available to the general user community is located at http://www.ncnr.nist.gov/equipment/ancequip.html.

Applicants and team members must possess the education, experience, and training, to pursue and advance the field of Neutron Scattering efficiently. In addition, the applicant and team members must possess a demonstrated record of excellence in research involving neutron scattering methods. In some cases one or more scientific staff members may be stationed at the NCNR to work in collaboration with NIST and other visiting scientists to help advance these program objectives.

Additional information on the NCNR can be found at: http://www.ncnr.nist.gov.

Funding Availability: The funding instrument used in this program will be a cooperative agreement. The nature of NIST's “substantial involvement” will generally be collaboration with the recipient(s) by working jointly with recipient scientists in carrying out the scope of work, or specifying direction or redirection of the scope of work due to inter-relationships with other programs requiring such cooperation.

Proposals will be considered for cooperative agreements with durations of up to three years, subject to the availability of funds, satisfactory progress, and the continuing relevance to the objectives of the NIST Center for Neutron Research. The anticipated level of funding is up to $150,000 per year. One to two awards are likely.

NIST will determine whether to fund one award for the full amount; to divide available funds into multiple awards of any size, and negotiate scopes of work and budgets as appropriate; or not to select any proposal for funding, upon completing the selection process described below.

Awards are anticipated to contain a start date of September 3, 2007.

Review and Selection Process: All applications received in response to this announcement will be reviewed to determine whether or not they are complete and responsive to the scope of the stated program objectives. Incomplete or non-responsive applications will not be reviewed for technical merit. The Program will retain one copy of each non-responsive application for three years for record keeping purposes and destroy all other copies.

Responsive proposals will be evaluated using the above criteria by an independent, objective panel composed of at least four individuals who are knowledgeable about neutron research, neutron spectroscopy, and neutron instrumentation. The reviewers will reach a consensus score resulting in a rank order of applicants. However, if non-Federal reviewers are used, each reviewer will evaluate and provide a score for each proposal without reaching a consensus.

The NCNR Director, serving as the Selecting Official, will make the award selection. In making the award selection, the NCNR Director will take into consideration the panels' technical evaluation. The NCNR Director, as the Selecting Official, may choose a proposal out of rank order based upon one or more of the following factors: (1) Availability of funds, (2) Redundancy, (3) Balance/distribution of funds by research areas described in the Funding Opportunity Description section of this Notice, (4) Program objectives described above in the Funding Opportunity Description section of this Notice, and (5) Logistical concerns that would be detrimental to the success or timely completion of the proposal objectives. Therefore, the highest scoring proposals may not necessarily be selected for an award. If an award is made to an applicant that deviates from the scores of the reviewers, the NCNR Director shall justify the selection in writing based on selection factors described above. The NCNR Director may select all, none, or some of the applications for funding.

The final approval of selected applications and award of financial assistance will be made by the NIST Grants Officer based on compliance with application requirements as published in this notice, compliance with applicable legal and regulatory requirements, whether the application furthers the objectives of the Department of Commerce, and whether the recommended applicants appear to be responsible. Applicants may be asked to modify objectives, work plans, or budgets and provide supplemental information required by the agency prior to award. The award decision of the Grants Officer is final. Applicants should allow up to 90 days processing time.

Unsuccessful applicants will be notified in writing. The Program will retain one copy of each unsuccessful application for three years for record keeping purposes. The remaining copies will be destroyed.

Evaluation Criteria: For the NCNR Sample Environment Equipment Financial Assistance Program, the technical reviewers will use the following criteria to evaluate the proposals:

1. Qualifications and experience of the Principal Investigator in neutron scattering research, as demonstrated by extensive publications and invited lectures in condensed matter physics, chemistry, material science, polymer science, biology, macromolecular science, and/or related fields. (10%)

2. Qualifications and experience of the proposed university staff in neutron scattering research or in related scientific or engineering areas that are key to the activities contained in the proposal, as demonstrated by resumes of staff proposed for this program. (5%)

3. Feasibility and rationality of the design and construction plan of the proposed sample environment equipment and its potential impact on neutron-based research, particularly in the areas of biology, macromolecular science, polymer science, condensed matter physics, and chemistry. (30%)

4. Quality of the plan in terms of providing assistance to U.S. researchers using the NCNR neutron facilities through sustained and dedicated access to unique and novel sample environment equipment. (20%)

5. Quality of the plan to integrate the sample environment equipment for dedicated use on one or more of the NCNR research facility neutron beam stations. (25%)

6. Cost effectiveness of the plan, including the completeness of the estimate to achieve the objectives stated in the proposal. (10%)

The following information applies to both programs announced in this notice:

The Department of Commerce Pre-Award Notification Requirements for Grants and Cooperative Agreements: The Department of Commerce Pre-Award Notification Requirements for Grants and Cooperative Agreements contained in the Federal Register notice of December 30, 2004 (69 FR 78389). On the form SF-424, the applicant's 9-digit Dun and Bradstreet Data Universal Numbering System (DUNS) number must be entered in the Applicant Identifier block (68 FR 38402).

Collaborations with NIST Employees: All applications should include a description of any work proposed to be performed by an entity other than the applicant, and the cost of such work should ordinarily be included in the budget.

If an applicant proposes collaboration with NIST, the statement of work should include a statement of this intention, a description of the collaboration, and prominently identify the NIST employee(s) involved, if known. Any collaboration by a NIST employee must be approved by appropriate NIST management and is at the sole discretion of NIST. Prior to beginning the merit review process, NIST will verify the approval of the proposed collaboration. Any unapproved collaboration will be stricken from the proposal prior to the merit review.

Use of NIST Intellectual Property: If the applicant anticipates using any NIST-owned intellectual property to carry out the work proposed, the applicant should identify such intellectual property. This information will be used to ensure that no NIST employee involved in the development of the intellectual property will participate in the review process for that competition. In addition, if the applicant intends to use NIST-owned intellectual property, the applicant must comply with all statutes and regulations governing the licensing of Federal government patents and inventions, described at 35 U.S.C. sec. 200-212, 37 CFR part 401, 15 CFR 14.36, and in section B.20 of the Department of Commerce Pre-Award Notification Requirements, published on December 30, 2004 (69 FR 78389). Questions about these requirements may be directed to the Counsel for NIST, 301-975-2803.

Any use of NIST-owned intellectual property by a proposer is at the sole discretion of NIST and will be negotiated on a case-by-case basis if a project is deemed meritorious. The applicant should indicate within the statement of work whether it already has a license to use such intellectual property or whether it intends to seek one.

If any inventions made in whole or in part by a NIST employee arise in the course of an award made pursuant to this notice, the United States government may retain its ownership rights in any such invention. Licensing or other disposition of NIST's rights in such inventions will be determined solely by NIST, and include the possibility of NIST putting the intellectual property into the public domain.

Collaborations Making Use of Federal Facilities and Equipment: All applicants are encouraged to make full use of any NCNR facilities and equipment deemed necessary, subject to approval by appropriate NIST management. Such use is at the sole discretion of NIST. All applications should include a description of any work proposed to be performed using Federal facilities and equipment. If an applicant proposes use of NIST facilities and equipment, the statement of work should include a statement of this intention and a description of the facilities and equipment. Prior to beginning the merit review process, NIST will verify the availability of the facilities and equipment and approval of the proposed usage. Any unapproved facility and equipment use will be stricken from the proposal prior to the merit review. Examples of some facilities and equipment that may be available for collaborations are listed on the NIST Technology Services Web site, http://patapsco.nist.gov/ts/220/external/facilities.htm.

Initial Screening of all Applications: All applications received in response to this announcement will be reviewed to determine whether or not they are complete and responsive to the scope of the stated objectives for each program. Incomplete or non-responsive applications will not be reviewed for technical merit. The Program will retain one copy of each non-responsive application for three years for record keeping purposes. The remaining copies will be destroyed.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001.

Notwithstanding any other provision of the law, no person is required to respond to, nor shall any person be subject to a penalty for failure to comply with, a collection subject to the requirements of the Paperwork Reduction Act, unless that collection of information displays a currently valid OMB Control Number.

Research Projects Involving Human Subjects, Human Tissue, Data or Recordings Involving Human Subjects: Any proposal that includes research involving human subjects, human tissue, data or recordings involving human subjects must meet the requirements of the Common Rule for the Protection of Human Subjects, codified for the Department of Commerce at 15 CFR part 27. In addition, any proposal that includes research on these topics must be in compliance with any statutory requirements imposed upon the Department of Health and Human Services (DHHS) and other federal agencies regarding these topics, all regulatory policies and guidance adopted by DHHS, FDA, and other Federal agencies on these topics, and all Presidential statements of policy on these topics.

NIST will accept the submission of human subjects protocols that have been approved by Institutional Review Boards (IRBs) registered with DHHS and performed by entities possessing a current, valid Federal-wide Assurance (FWA) from DHHS. NIST will not issue a single project assurance (SPA) for any IRB reviewing any human subjects protocol proposed to NIST.

On August 9, 2001, the President announced his decision to allow Federal funds to be used for research on existing human embryonic stem cell lines as long as prior to his announcement (1) the derivation process (which commences with the removal of the inner cell mass from the blastocyst) had already been initiated and (2) the embryo from which the stem cell line was derived no longer had the possibility of development as a human being. NIST will follow guidance issued by the National Institutes of Health at http://ohrp.osophs.dhhs.gov/humansubjects/guidance/stemcell.pdf for funding such research.

Research Projects Involving Vertebrate Animals: Any proposal that includes research involving vertebrate animals must be in compliance with the National Research Council's “Guide for the Care and Use of Laboratory Animals,” which can be obtained from National Academy Press, 2101 Constitution Avenue, NW., Washington, DC 20055. In addition, such proposals must meet the requirements of the Animal Welfare Act (7 U.S.C. 2131 et seq.), 9 CFR parts 1, 2, and 3, and if appropriate, 21 CFR part 58. These regulations do not apply to proposed research using pre-existing images of animals or to research plans that do not include live animals that are being cared for, euthanized, or used by the project participants to accomplish research goals, teaching, or testing. These regulations also do not apply to obtaining animal materials from commercial processors of animal products or to animal cell lines or tissues from tissue banks.

Limitation of Liability: Funding for the programs listed in this notice is contingent upon the availability of funds. In no event will the Department of Commerce be responsible for proposal preparation costs if these programs fail to receive funding or are cancelled because of other agency priorities. Publication of this announcement does not oblige the agency to award any specific project or to obligate any available funds.

Executive Order 12866: This funding notice was determined to be not significant for purposes of Executive Order 12866.

Executive Order 13132 (Federalism): It has been determined that this notice does not contain policies with federalism implications as that term is defined in Executive Order 13132.

Executive Order 12372: Applications under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553 (a)). Because notice and comment are not required under 5 U.S.C. 553, or any other law, for rules relating to public property, loans, grants, benefits or contracts (5 U.S.C. 553(a)), a Regulatory Flexibility Analysis is not required and has not been prepared for this notice, 5 U.S.C. 601 et seq.

Dated: March 30, 2007.
James E. Hill,
Acting Deputy Director, NIST.

[FR Doc. E7-6505 Filed 4-5-07; 8:45 am]

BILLING CODE 3510-13-P